Executive Order 14343 of August 28, 2025

Further Exclusions From the Federal Labor-Management Relations Program

By the authority vested in me as President by the Constitution and the laws of the United States of America, including section 7103(b)(1) of title 5, United States Code, to enhance the national security of the United States, it is hereby ordered:

Section 1. Determinations. The agencies and agency subdivisions set forth in section 2 of this order are hereby determined to have as a primary function intelligence, counterintelligence, investigative, or national security work. It is also hereby determined that Chapter 71 of title 5, United States Code, cannot be applied to these agencies and agency subdivisions in a manner consistent with national security requirements and considerations.

Sec. 2. National Security Exclusions. Executive Order 12171 of November 19, 1979, as amended, is further amended by:

(a) In section 1-408, adding at the end:

“(e) Units in the Bureau of Reclamation with primary responsibility for operating, managing, or maintaining hydropower facilities.”;

(b) Revising section 1-411 to read:

“1-411. Agencies or subdivisions of the Department of Commerce:

(a) The International Trade Administration.

(b) Office of the Commissioner for Patents and subordinate units, Patent and Trademark Office.

(c) The following subdivisions of the National Oceanic and Atmospheric Administration:

(1) National Environmental Satellite, Data, and Information Service.

(2) National Weather Service.”; and

(c) Adding the following after section 1-419:

“1-420. The National Aeronautics and Space Administration.

1-421. The United States Agency for Global Media.”.

Sec. 3. Extension of Deadline. Any order published by the Secretaries of Defense and Veterans Affairs pursuant to section 4 of Executive Order 14251 of March 27, 2025 (Exclusions from Federal Labor-Management Relations Programs), shall have full force and effect if it is issued prior to the date that is 15 days from the date of this order, notwithstanding section 4(b)(ii) of Executive Order 14251.

Sec. 4. Severability. If any provision of this order, or the application of any provision to any person or circumstance, is held to be invalid, the remainder of this order and the application of its provisions to any other persons or circumstances shall not be affected thereby.

Sec. 5. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

August 28, 2025.

[FR Doc. 2025-16924

Filed 9-2-25; 11:15 am]

Billing code 3395-F4-P